DEPARTMENT OF THE INTERIOR

Fish and Wildlife Service

[FWS-HQ-FHC-2013-N008; 94140-1341-0000-N5]

Quagga Mussel Strategic Planning Meeting

AGENCY: Fish and Wildlife Service, Interior.

ACTION: Notice of meeting.

SUMMARY: This notice announces a meeting to gather information for planning an FY13 strategy to minimize the spread of quagga mussels from the Colorado River and a framework for working beyond FY13. Priorities for minimizing the spread of these mussels will be discussed. The meeting is open to the public.

DATES: The meeting is scheduled from 9 a.m. to 4:30 p.m., Wednesday, February 20, 2013.

ADDRESSES: The meeting will take place at the Utah Division of Wildlife, 1594 W North Temple, Salt Lake City, UT 84114.

FOR FURTHER INFORMATION CONTACT: David Britton, Aquatic Invasive Species Coordinator, by telephone at 817-272-3714, or by email to David_Britton@fws.gov.

SUPPLEMENTARY INFORMATION:

Background

In FY12, Congress directed the U.S. Fish and Wildlife Service to spend approximately $1,000,000 for implementation of mandatory operational inspection and decontamination stations at Federally managed or interjurisdictional water bodies considered to be of highest risk, as called for in the February 2010 Quagga—Zebra Mussel Action Plan for Western U.S. Waters. The U.S. Fish and Wildlife Service, as is the rest of the Federal government, is currently operating under the Continuing Appropriations Resolution, 2013 (Pub. L 112-175), which provides funding through March 27, 2013. We would like input from partners in order to maximize benefit from actions funded in FY13.

Agenda (Tentative)

9 a.m. Introductions

9:15 a.m. Overview and Background Presentation

9:45 a.m. Group Discussion

Noon Lunch

1 p.m. Group Discussion

4 p.m. Public Comment Period

4:30 p.m. Closeout and Adjourn

Accessibility Information

The meeting location is accessible to wheelchair users. If you require additional accommodations, please notify us at least 1 week in advance of the meeting.

Authority: We publish this notice under the Nonindigenous Aquatic Nuisance Prevention and Control Act of 1990.

Dated: January 17, 2013.
Mike Oetker,
Assistant Regional Director, Fisheries, U.S. Fish and Wildlife Service.

[FR Doc. 2013-01468 Filed 1-24-13; 8:45 am]

BILLING CODE 4310-55-P